FEDERAL COMMUNICATIONS COMMISSION

47 CFR Part 73

[DA 06-523, MM Docket Nos. 01-19 and 01-27, RM-10048, RM-10027, RM-10056, and RM-10118]

Radio Broadcasting Services; Clayton, Ruston, Saint Joseph, and Wisner, LA

AGENCY: Federal Communications Commission.

ACTION: Final rule; petition for reconsideration, denial.

SUMMARY: The staff denied a petition for reconsideration filed by Communications Capital Company II of Louisiana, LLC, of a Report and Order in this proceeding, which had dismissed its counterproposal. The staff determined that the reconsideration petition did not demonstrate any errors of fact or law and that the counterproposal was properly dismissed as an impermissibly contingent proposal. See also SUPPLEMENTARY INFORMATION.

FOR FURTHER INFORMATION CONTACT: Andrew J. Rhodes, Media Bureau, (202) 418-2180.

SUPPLEMENTARY INFORMATION: This is a synopsis of the Commission's Memorandum Opinion and Order, MM Docket Nos. 01-19 and 01-27, adopted March 15, 2006, and released March 17, 2006. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com.

The staff also found that the counterproposal was untimely under longstanding precedent and could have been dismissed on that ground in the Report and Order. See 68 FR 3819 (January 27, 2003).

This document is not subject to the Congressional Review Act. (The Commission, is, therefore, not required to submit a copy of this Memorandum Opinion and Order to GAO, pursuant to the Congressional Review Act, see 5 U.S.C. 801(a)(1)(A) because the petition for reconsideration was denied.)

Federal Communications Commission.
John A. Karousos,
Assistant Chief, Audio Division, Media Bureau.

[FR Doc. 06-3200 Filed 4-4-06; 8:45 am]

BILLING CODE 6712-01-P